DEPARTMENT OF THE INTERIOR

Bureau of Land Management

[UT080-1310-00]

Notice of Intent To Prepare an Environmental Impact Statement (EIS) on the Greater Deadman Bench Oil and Gas Producing Region Field Development Project, Uintah County, UT

AGENCY: Bureau of Land Management, Interior.

ACTION: Notice of intent.

SUMMARY: Pursuant to section 102(2)(C) of the National Environmental Policy Act of 1969, the Bureau of Land Management (BLM), Vernal Field Office, Vernal, Utah, will prepare an Environmental Impact Statement (EIS). The EIS will focus on Questar Exploration and Production Company's (QEP) proposed gas and oil development on about 99,000 acres in the Greater Deadman Bench oil and gas production region.

DATES: Public scoping comments will be accepted on or before February 4, 2004. A public scoping open house and information meeting will be held on January 14, 2004 from 7-9 p.m., at the Uintah County Commission Chambers, 147 E Main Street, Vernal, Utah. If you have any information, data, concerns, or suggestions related to the potential impacts of the proposed action, including the issues identified above, please submit them to the address listed below.

SUPPLEMENTARY INFORMATION: The project area, located about 20 miles south of Vernal, Utah, involves about 85% BLM-administered lands (83,864 acres); 12% (11,448 acres) State of Utah-administered lands; and, 3% (3,473 acres) patented land. Currently 278 oil and water-injection wells and about 300 gas wells with their attendant service roads exist within the project area. The proponent anticipates the drilling of up to 1239 new wells over a period of 10 years, or until the resource base is fully developed. Of these new wells, 826 would be new locations and 470 would be twins drilled from existing locations (representing 38% of the total new wells that would be drilled). Required infrastructure includes electric power lines, roads, oil and gas flow lines and pipelines, well pads (with pumping units for oil wells), central facilities, water injection facilities, gas treatment and compression facilities. Gas would be transported via pipeline to centralized compression and treatment facilities. Produced water would be trucked or piped to one of several existing QEP water injection plants where it would be re-injected into the oil reservoir or disposal zone via an injection well system.

Major issues at this time include potential impacts on desert and semi-desert ecosystems and their dependent wildlife species (including antelope, sage grouse, white-tailed prairie dog colonies and their associated species), vegetation (including noxious weeds and reclamation), riparian habitat associated with the Green River corridor. Alternatives identified at this time include the proposed action and the no action alternatives.

FOR FURTHER INFORMATION CONTACT: Jean Nitschke-Sinclear, (435) 781-4437 or e-mail: jean_nitschke-sinclear@blm.

ADDRESSES: Written scoping comments should be sent to: Field Manager, Bureau of Land Management, Vernal Field Office, 170 South 500 East, Vernal, Utah 84078, Attn: QEP Field Development Project.

Comments, including names and street addresses of respondents will be available for public review at the BLM Vernal Field Office and will be subject to disclosure under the Freedom of Information Act (FOIA). They may be published as part of the EIS and other related documents. Individual respondents may request confidentiality. If you wish to withhold your name or street address from public review and disclosure under the FOIA, you must state this prominently at the beginning of your written comment. Such requests will be honored to the extent allowed by law. All submissions from organizations or businesses will be made available for public inspection in their entirety.

Dated: October 9, 2003.
Gene Terland,
Associate State Director.

[FR Doc. 03-31123 Filed 12-18-03; 8:45 am]

BILLING CODE 4310-$$-P